DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be rescheduling its April 30, 2012, closed session by teleconference under exemption 9(B) of the Government in Sunshine Act, 5 U.S.C. section 552b(c), to May 23, 2012.

DATES: The April 30, 2012, NBSB closed session by teleconference is being rescheduled to May 23, 2012, from 1 p.m. to 3:30 p.m. The agenda and time are subject to change as priorities dictate.

ADDRESSES: The closed session will occur by teleconference and will not be open to the public as stipulated under exemption 9(B) of the Government in Sunshine Act, 5 U.S.C. section 552b(c).

FOR FURTHER INFORMATION CONTACT: NBSB Mailbox, Office of the Assistant Secretary for Preparedness and Response, U.S. Department of Health and Human Services; Email: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: The Board is being asked to review and evaluate the 2012 Public Health Emergency Medical Countermeasures Enterprise (PHEMCE) Strategy and Implementation Plan (SIP). Until a final document is approved by the Secretary of the Department of Health and Human Services (HHS), the development of PHEMCE SIP requires consideration and discussion of procurement-sensitive information that should not be released to the public prior to the Secretary's final decision. Premature public disclosure of the draft PHEMCE SIP would limit the Secretary's decision-making ability to effectively prioritize HHS expenditures on critical medical countermeasures. Therefore, the Board's deliberations on the new task are being conducted in closed sessions in accordance with provisions set forth under exemption 9(B) of the Government in Sunshine Act, 5 U.S.C. section 552b(c), and with approval by the Assistant Secretary for Preparedness and Response.

Availability of Materials: All public materials will be posted on the NBSB Web site at www.phe.gov/nbsb.

Procedures for Providing Public Input: All written comments should be sent by email to NBSB@HHS.GOV with “NBSB Public Comment” as the subject line.

Dated: April 13, 2012.
Nicole Lurie,
Assistant Secretary for Preparedness and Response.

[FR Doc. 2012-9497 Filed 4-19-12; 8:45 am]

BILLING CODE 4150-37-P